DEPARTMENT OF AGRICULTURE

Office of the Secretary

7 CFR Part 20

RIN 0551-AA70

Export Sales Reporting Requirements

AGENCY: Office of the Secretary, USDA.

ACTION: Proposed rule.

SUMMARY: This proposed rule would add reporting for pork (fresh, chilled, and frozen box/primal cuts) and distillers dried grain (DDG) to the Export Sales Reporting Requirements. Under this proposed rule, all exporters of U.S. pork and DDG would be required to report on a weekly basis, information on the export sales of pork and DDGs to the Foreign Agricultural Service (FAS).

DATES: Submit comments on or before May 7, 2012.

ADDRESSES: Address all comments concerning this proposed rule to Peter W. Burr, Branch Chief, Export Sales Reporting Branch, Import Policies and Export Reporting Division, Office of Trade Programs, Foreign Agricultural Service, 1400 Independence Avenue SW., Washington, DC 20250-1021, STOP 1021; or by email at Pete.Burr@fas.usda.gov; or by telephone at (202) 720-3274; or fax to (202) 720-0876. Persons with disabilities who require an alternative means for communication of information (Braille, large print, audiotape, etc.) should contact USDA's Target Center at (202) 720-2600 (voice and TDD).

FOR FURTHER INFORMATION CONTACT: Peter W. Burr, Branch Chief, Export Sales Reporting Branch, Import Policies and Export Reporting Division, Office of Trade Programs, Foreign Agricultural Service, 1400 Independence Avenue SW., Washington, DC 20250-1021, STOP 1021; or by email at Pete.Burr@fas.usda.gov; or by telephone on (202) 720-3274; or by fax (202) 720-0876.

SUPPLEMENTARY INFORMATION:

Background

In 1973, Congress mandated an export sales reporting requirement to ensure that all parties involved in the production and export of U.S. grain have access to up-to-date export information. This mandate was the result of huge, unanticipated, Soviet purchases in 1972 of U.S. wheat and corn that produced a sizable run-up in U.S. food prices and depleted U.S. reserve stocks. There was concern that large grain companies had an advantage in this situation because they had more information than the public on future prices and grain trade trends. Prior to the establishment of the export sales reporting system, it was difficult for the public to obtain information on exports until such commodities were actually shipped.

The statutory authority for the Export Sales Reporting Requirements, section 602 of the Agricultural Trade Act of 1978, provides for the reporting of wheat and wheat flour, feed grains, oil seeds, cotton, pork, beef and products thereof, and other commodities that the Secretary of Agriculture (the Secretary) may designate.

This proposed rule would add reporting for pork (fresh, chilled, and frozen box/primal cuts) and DDGs to the Export Sales Reporting Requirements. Under this proposed rule, all exporters of U.S. pork and DDGs would be required to report weekly information with respect to the export sales of pork and DDGs to the Export Sales Reporting Branch, Office of Trade Programs, FAS, United States Department of Agriculture (USDA). Required reportable information includes the quantity, destination, and marketing year of all pork and DDG export sales, changes in sales, and shipments per parameters identified in Appendix 1. A summary of the “U.S. Export Sales” report is published on FAS' Web site at http://www.fas.usda.gov/export-sales/esrd1.html, each Thursday at 8:30 a.m., Eastern Time. This change would not alter the current reporting schedule and would be undertaken using existing staff at no additional cost to the agency.

Adding pork and DDG to the Export Sales Reporting Requirements would provide an early indicator of export sales levels for U.S. pork and DDG, thus improving market transparency and enabling commodity markets to better adjust to changing export activity. This proposed rule would allow for information on the total volume of sales and shipments to be available within 2 weeks of the export sale and shipment, rather than the nearly 2-month delay experienced under the current system operated by the U.S. Bureau of the Census, which only reports actual exports.

Executive Order 12866

The proposed rule has been determined to be significant under Executive Order 12866 and has been reviewed by the Office of Management and Budget.

Regulatory Flexibility Act

The Regulatory Flexibility Act ensures that regulatory and information requirements are tailored to the size and nature of small businesses, small organizations, and small governmental jurisdictions. This proposed rule will not have a significant economic impact on small businesses.

Executive Order 12372

Executive Order 12372, “Intergovernmental Review of Federal Programs,” requires consultation with state and local officials. The objectives of the Executive Order are to foster an intergovernmental partnership and a strengthened federalism, by relying on state and local processes for state and local government coordination and review of proposed federal financial assistance and direct federal development. This rule neither provides federal financial assistance nor direct federal development; it does not provide either grants or cooperative agreements. Therefore this program is not subject to Executive Order 12372.

Executive Order 12988

This proposed rule has been reviewed under Executive Order 12988. The provisions of this proposed rule would not have a preemptive effect with respect to any state or local laws, regulations, or policies which conflict with such provision or which otherwise impede their full implementation. The proposed rule would not have a retroactive effect. Before any judicial action may be brought forward regarding this proposed rule, all administrative remedies must be exhausted.

Executive Order 13132

The policies contained in this rule would not have any substantial direct effect on states, on the relationship between the national government and the states, or on the distribution of power and responsibilities among the various levels of government. Nor would this rule impose substantial direct compliance costs on state and local governments. Therefore, consultation with the states is not required.

Executive Order 13175

This rule has been reviewed for compliance with Executive Order 13175, “Consultation and Coordination with Indian Tribal Governments.” This Executive Order imposes requirements on the development of regulatory policies that have Tribal implications or preempt tribal laws. The policies contained in this rule do not preempt Tribal law.

National Environmental Policy Act

The Administrator has determined that this action will not have a significant effect on the quality of the human environment. Therefore, neither an Environmental Assessment nor an Environmental Impact Statement is necessary for this proposed rule.

Unfunded Mandates Reform Act (Pub. L. 104-4)

Public Law 104-4 requires consultation with state and local officials and Indian tribal governments. This proposed rule does not impose an unfunded mandate or any other requirement on state, local, or tribal governments. Accordingly, these requirements are not subject to the provisions of the Unfunded Mandates Reform Act.

Executive Order 12630

This Order requires careful evaluation of governmental actions that interfere with constitutionally protected property rights. This proposed rule would not interfere with any property rights and, therefore, does not need to be evaluated on the basis of the criteria outlined in Executive Order 12630.

Paperwork Reduction Act of 1995

In accordance with the Paperwork Reduction Act of 1995 (44 U.S.C. Chapter 35), the Secretary is requesting comments from all interested individuals and organizations on a proposed revision to the currently approved information collection for this program. This revision includes the proposed change in information collection activities related to the regulatory changes in this proposed rule.

Comment Date

Comments on this information collection must be received by May 7, 2012 to be assured of consideration.

Additional Information or Comments

Peter W. Burr, Office of Trade Programs/Import Policies and Export Reporting Division/Export Sales Reporting Branch, FAS, USDA, 1400 Independence Avenue, Stop 1025, SW., Washington, DC 20520-1025; or by email at: esr@fas.usda.gov; or to the Desk Officer for Agriculture, Office of Information and Regulatory Affairs, Office of Management and Budget, Washington, DC 20503.

Title: Export Sales (Reporting Program) of U.S. Agricultural Commodities.

OMB Number: 0551-0007.

Expiration Date of Approval: January 31, 2014.

Type of Request: Revision of a currently approved information collection.

Abstract: Section 602 of the Agricultural Trade Act of 1978, as amended, (7 U.S.C. 5712) requires the reporting of information pertaining to contracts for export sale of certain specified agricultural commodities and other commodities that may be designated by the Secretary. The Secretary of Agriculture has the authority to add other commodities to this list. This proposed rule would add reporting for pork and DDGs to the Export Sales Reporting Requirements. Regulations at 7 CFR part 20 implement the reporting requirements, and prescribe a system for reporting information pertaining to contracts for export sales.

USDA's Export Sales Reporting System was created after the large unexpected purchase of U.S. wheat and corn by the Soviet Union in 1972. To make sure that all parties involved in the production and export of U.S. grain have access to up-to-date export information, the U.S. Congress mandated an export sales reporting requirement in 1973. Prior to the establishment of the Export Sales Reporting System, it was difficult for the public to obtain information on export sales activity until the actual shipments had taken place.

Estimate of Burden: The average burden, including the time for reviewing instructions, gathering data needed, completing forms, and record keeping is estimated to be 30 minutes.

Respondents: All exporters of wheat and wheat flour, feed grains, oilseeds, cotton, rice, cattle hides and skins, beef, pork, and any products thereof, and other commodities that the Secretary may designate as produced in the United States.

Estimated number of respondents: 360.

Estimated Number of Responses per Respondent: 252.37.

Estimated Total Annual Burden on Respondents: 45,427.

Requests for Comments: Send comments regarding (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on those who are to respond, including through the use of automated, electronic, mechanical, or other technological collection techniques or other forms of information technology.

Persons with disabilities who require an alternative means of communication of information (Braille, large print, audiotape, etc.) should contact USDA's Target Center at (202) 720-2600 (voice and TDD). All responses to this notice will be summarized and included in the request for OMB approval. All comments also will become a matter of public record.

E-Government Act Compliance

FAS is committed to compliance with the E-Government Act, which requires Government agencies, in general, to provide the public the option of submitting information or transacting business electronically to the maximum extent possible.

List of Subjects in 7 CFR Part 20

Agricultural commodities, Exports, Reporting and recordkeeping requirements.

Accordingly, for the reasons set forth in the preamble, 7 CFR part 20 is proposed to be amended as follows:

PART 20—EXPORT SALES REPORTING REQUIREMENTS

1. The authority citation for part 20 continues to read as follows:

Authority: 7 U.S.C. 5712.

2. Section 20.4 is amended by revising paragraph (c) to read as follows:

§ 20.4 Definitions.

* * * * *

(c) Commodity. Wheat and wheat flour, feed grains, oilseeds, cotton, rice, cattle hides and skins, beef, pork, and any products thereof, and any other agricultural commodity the Secretary may designate. “Commodity” shall also mean a commodity having identifying characteristics as described in any announcement issued pursuant to § 20.5 such as class(es) of wheat and rice, or staple length(s) of cotton. Mixed wheat shall be considered to be the predominant wheat class of the blend. This definition excludes commodities to be used for seed which have been treated in such a manner that their use is limited to seed for planting purposes or on which a certificate has been issued by a recognized seed testing laboratory setting forth variety, germination, and purity.

* * * * *

3. Appendix 1 to part 20 is revised to read as follows:

Appendix 1 to Part 20—Commodities Subject to Reporting, Units of Measure to be Used in Reporting, and Beginning and Ending Dates of Marketing Years

Commodity to be reported | Unit of measure to be used in reporting | Beginning of marketing year | End of marketing year
Wheat—Hard red winter | Metric Tons | June 1 | May 31.
Wheat—Soft red winter | Metric Tons | June 1 | May 31.
Wheat—Hard red Spring | Metric Tons | June 1 | May 31.
Wheat—White (incl. Hard and soft white) | Metric Tons | June 1 | May 31.
Wheat—Durum | Metric Tons | June 1 | May 31.
Wheat—Products—All wheat flours (including clears) bulgur, semolina, farina, and rolled, cracked and crushed wheat | Metric Tons | June 1 | May 31.
Barley—Unmilled (including feed and hull-less waxy barley) | Metric Tons | June 1 | May 31.
Corn—Unmilled (including waxy, cracked—if 50% whole kernels) | Metric Tons | Sept. 1 | Aug. 31.
Distillers Dried Grain | Metric Tons | Sept. 1 | Aug. 31.
Rye—Unmilled | Metric Tons | June 1 | May 31.
Oats—Unmilled | Metric Tons | June 1 | May 31.
Grain Sorghum—Unmilled | Metric Tons | Sept. 1 | Aug. 31.
Soybeans | Metric Tons | Sept. 1 | Aug. 31.
Soybean Cake and Meal | Metric Tons | Oct. 1 | Sept. 30.
Soybean Oil—including: Crude (including degummed), once refined, soybean salad oil (including refined and further processed by bleaching, deodorizing or winterizing), hydro-genated, packaged oil | Metric Tons | Oct. 1 | Sept. 30.
Flaxseed | Metric Tons | June 1 | May 31.
Linseed Oil—including raw, boiled | Metric Tons | June 1 | May 31.
Cottonseed | Metric Tons | Aug. 1 | July 31.
Cottonseed Cake and Meal | Metric Tons | Oct. 1 | Sept. 30.
Cottonseed Oil—including crude, once refined, cottonseed salad oil (refined and further processed by bleaching, deodorizing or winterizing), hydrogenated | Metric Tons | Oct. 1 | Sept. 30.
Sunflowerseed Oil—crude, once refined, sunflowerseed salad oil (refined and further processed by bleaching, deodorizing or winterizing), hydrogenated | Metric Tons | Oct. 1 | Sept. 30.
Cotton—American Pima—Raw, extra long staple | Running Bales | Aug. 1 | July 31.
Cotton—Upland—Raw, staple length 1 1/16 inches and over | Running Bales | Aug. 1 | July 31.
Cotton—Upland—Raw, staple length 1 inch up to 1 1/16 inches | Running Bales | Aug. 1 | July 31.
Cotton—Upland—Raw, staple length under 1 inch | Running Bales | Aug. 1 | July 31.
Rice—Long grain, rough (including parboiled) | Metric Tons | Aug. 1 | July 31.
Rice—Medium, short and other classes, rough (including parboiled) | Metric Tons | Aug. 1 | July 31.
Rice—Long grain, brown (including parboiled) | Metric Tons | Aug. 1 | July 31.
Rice—Medium, short and other classes, brown (including parboiled) | Metric Tons | Aug. 1 | July 31.
Rice—Long grain, milled (including parboiled) | Metric Tons | Aug. 1 | July 31.
Rice—Medium, short and other classes, milled (including parboiled, brewer's rice) | Metric Tons | Aug. 1 | July 31.
Cattle Hides and Skins—Whole cattle hides, (excluding wet blues) | Pieces | Jan. 1 | Dec. 31.
Cattle Hides and Skins—Whole calf skins (excluding wet blues) | Pieces | Jan. 1 | Dec. 31.
Cattle Hides and Skins—Whole kip skins, (excluding wet blues) | Pieces | Jan. 1 | Dec. 31.
Cattle Hides and Skins—Cattle, calf, and kip cut into croupons, crops, dossets, sides, butts and butt bend (hide equivalent) (excluding wet blues) | Number | Jan. 1 | Dec. 31.
Cattle Hides and Skins—Cattle, calf and kip, in cuts not otherwise specified; pickled/limed (excluding wet blues) | Pounds | Jan. 1 | Dec. 31.
Cattle, calf and kip, Wet blues—unsplit (whole or sided) hide equivalent | Number | Jan. 1 | Dec. 31.
Cattle, calf and kip, Wet blues—grain splits (whole or sided) hide equivalent | Number | Jan. 1 | Dec. 31.
Cattle, calf and kip, Wet blues—splits, (excluding grain splits) | Pounds | Jan. 1 | Dec. 31.
Beef—fresh, chilled or frozen muscle cuts/whether or not boxed | Metric tons | Jan. 1 | Dec. 31.
Pork—fresh, chilled or frozen muscle cuts/whether or not boxed | Metric tons | Jan. 1 | Dec. 31.

Dated: January 10, 2012.
Suzanne E. Heinen,
Acting Administrator, Foreign Agricultural Service.

[FR Doc. 2012-5486 Filed 3-7-12; 8:45 am]

BILLING CODE 3410-10-P